DEPARTMENT OF STATE

Office of Inspector General

[Public Notice 3580]

Notice of Information Collection Under Emergency

Review: Overseas Absentee Ballot Questionnaire.

AGENCY: Department of State.

SUMMARY: The Department of State has submitted the following information collection request to the Office of Management and Budget (OMB) for review and approval in accordance with the emergency review procedures of the Paperwork Reduction Act of 1995.

Type of Request: Emergency Review.

Originating Office: Office of Inspector General (OIG).

Title of Information Collection: Overseas Absentee Ballot Questionnaire.

Frequency: One Time Collection.

Form Number: None.

Respondents: U.S. Citizens Abroad.

Estimated Number of Respondents: 720.

Average Hours Per Response: 15 minutes.

Total Estimated Burden: 180 hours.

The proposed information collection is published to obtain comments from the public and affected agencies. Emergency review and approval of this collection has been requested from OMB by February 16, 2001. If granted, the emergency approval is only valid for 180 days. Comments should be directed to the State Department Desk Officer, Office of Information and Regulatory Affairs, Office of Management and Budget (OMB), Washington, DC 20530, (202) 395-5871.

For Additional Information

Public comments, or requests for additional information, regarding the collection listed in this notice should be directed to (Linda Topping, Office of Inspector General, (202) 647-9450, U.S. Department of State, Washington, DC 20520.

Dated: February 15, 2001.
Anne Sigmund,
Acting Inspector General, Department of State.

[FR Doc. 01-4522 Filed 2-22-01; 8:45 am]

BILLING CODE 4710-42-U